DEPARTMENT OF ENERGY

Federal Energy Regulatory Commission

[Docket No. RP03-299-002]

Dominion Cove Point LNG, LP; Notice of Compliance Filing

June 6, 2003.

Take notice that on May 15, 2003, Dominion Cove Point LNG, LP (Cove Point) tendered for filing an explanation of its filed fuel retainage percentages for transportation service.

Cove Point states that its filing provides the additional information it was directed to provide in the Commission's April 30, 2002, order in this proceeding.

Cove Point states that copies of its filing have been served upon all parties to this proceeding.

Any person desiring to protest said filing should file a protest with the Federal Energy Regulatory Commission, 888 First Street, NE., Washington, DC 20426, in accordance with § 385.211 of the Commission's rules and regulations. All such protests must be filed on or before the protest date as shown below. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: June 13, 2003.

Magalie R. Salas,
Secretary.

[FR Doc. 03-14895 Filed 6-11-03; 8:45 am]

BILLING CODE 6717-01-P